DEPARTMENT OF TRANSPORTATION

Federal Aviation Administration

14 CFR Part 39

[Docket No. FAA-2013-0400; Directorate Identifier 2009-SW-48-AD]

RIN 2120-AA64

Airworthiness Directives; Bell Helicopter Textron Canada Limited (Bell) Model Helicopters

AGENCY: Federal Aviation Administration (FAA), DOT.

ACTION: Notice of proposed rulemaking (NPRM).

SUMMARY: We propose to adopt a new airworthiness directive (AD) for Bell Model 206A, 206B, 206L, 206L-1, 206L-3, 206L-4, 222, 222B, 222U, 230, 407, 427, and 430 helicopters. This proposed AD would require inspecting each bearing to determine if it has been properly staked and replacing the bearing or assembly if it has not been staked properly. This proposed AD is prompted by bearings not being staked as required and migrating out of their proper position, which may limit the functionality of the affected part. The proposed actions are intended to prevent failure of a bearing and the assembly in which it is installed and subsequent loss of control of the helicopter.

DATES: We must receive comments on this proposed AD by July 12, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Bell Helicopter Textron Canada Limited, 12,800 Rue de l'Avenir, Mirabel, Quebec J7J1R4, telephone (450) 437-2862 or (800) 363-8023, fax (450) 433-0272, or at http://www.bellcustomer.com/files/. You may review the referenced service information at the FAA, Office of the Regional Counsel, Southwest Region, 2601 Meacham Blvd., Room 663, Fort Worth, Texas 76137.

FOR FURTHER INFORMATION CONTACT: Sharon Miles, Aviation Safety Engineer, Regulations and Policy Group, Rotorcraft Directorate, FAA, 2601 Meacham Blvd., Fort Worth, Texas 76137; telephone (817) 222-5110; email sharon.y.miles@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada, which is the aviation authority for Canada, has issued Canadian AD No. CF-2009-32, dated July 24, 2009, to correct an unsafe condition for the specified Bell model helicopters. Transport Canada advises that some bearings may not have been staked as required, which may limit the proper functioning of the affected part. Bell, the helicopter manufacturer, received two reports stating that a bearing migrated out of a flight control lever. Investigation revealed that, although the inspection witness mark was applied to the part, the bearing had not been staked during manufacturing. Affected parts were associated with a single Bell supplier. Review of the supplier's manufacturing and quality process indicates inspection of additional parts is necessary.

FAA's Determination

These helicopters have been approved by the aviation authority of Canada and are approved for operation in the United States. Pursuant to our bilateral agreement with Canada, Transport Canada has notified us of the unsafe condition described in its AD. We are proposing this AD because we evaluated all known relevant information and determined that an unsafe condition is likely to exist or develop on other helicopters of these same type designs.

Related Service Information

Bell has issued Alert Service Bulletin (ASB) No. 206-09-122 for Model 206A/B series; No. 206L-09-156 for Model 206L series; No. 222-09-107 for Model 222 and 222B; No. 222U-09-78 for Model 222U; No. 230-09-39 for Model 230; No. 407-09-88 for Model 407; No. 427-09-25 for Model 427; and No. 430-09-42, for Model 430, all dated April 7, 2009. The ASBs specify inspecting for parts that contain bearings that have not been staked.

Proposed AD Requirements

This proposed AD would require using a 10X or higher power magnifying glass or a boroscope to inspect each bearing in each affected part to determine if each bearing has been properly staked. This proposed AD would only require parts that contain a serial number with a prefix of “TI” or “TIFS,” or parts without a serial number even if the part has a supplier marking with a circle around a “T.M.” over a “1,” to be inspected. If you cannot access the part to determine if the bearing is properly staked, this proposed AD would require removing the part from the helicopter to inspect it.

Costs of Compliance

We estimate that this proposed AD would affect about 2,601 helicopters of U.S. registry. Based on an average labor rate of $85 per work-hour, we estimate that operators may incur the following costs in order to comply with this AD. It would take about 1 to 5 work-hours per helicopter, depending on the model, to inspect for properly staked bearings. Replacing a bearing would require about 2 work-hours and would cost $3,306 for required parts. Based on an average inspection time of 2 work-hours, we estimate the cost of this proposed AD to inspect the helicopters would be $170 per helicopter and $442,170 for the U.S. operator fleet. Replacing a bearing would cost $3,476 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron Canada Limited: Docket No. FAA-2013-0400; Directorate Identifier 2009-SW-48-AD.

(a) Applicability

This AD applies to Model 206A, 206B, 206L, 206L-1, 206L-3, 206L-4, 222, 222B, 222U, 230, 407, 427, and 430 helicopters as follows, certificated in any category.

(1) Model 206A, Model 206B helicopters converted from Model 206A, and Model 206B with Bellcrank Assembly, part-number (P/N) 206-001-526-001 or 206-001-538-009; Idler Link Assembly, P/N 206-010-336-109; or Link Assembly, P/N 206-031-589-001, installed.

(2) Model 206L, Model 206L-1, Model 206L-3, and Model 206L-4 with Idler Assembly, P/N 206-001-549-101; Bellcrank Assembly, P/N 206-001-552-001; or Link Assembly, P/N 206-010-336-109, installed.

(3) Model 222 and Model 222B with

(i) Cyclic Link Assembly, P/N 222-010-419-110; or

(ii) Bellcrank Assembly Directional Controls, P/N 222-001-734-001 or 222-001-736-005, installed.

(4) Model 222U with

(i) Cyclic Link Assembly, P/N 222-010-419-110; or

(ii) Bellcrank Assembly Directional Controls, P/N 222-001-734-001 or 222-001-736-005, installed.

(5) Model 230 with

(i) Fitting Assembly Engine Bipod Mount, P/N 230-060-113-101, 230-060-113-102, 230-060-114-101, or 230-060-114-102; Cyclic Link Assembly P/N 222-010-419-110; or

(ii) Bellcrank Assembly Directional Controls, P/N 222-001-734-001, or 222-001-736-005, installed.

(6) Model 407 with

(i) Bearing and Liner Assembly, P/N 406-010-417-101; Cyclic Mixer Follower Assembly, P/N 407-001-325-101; Bellcrank Assembly, P/N 407-001-524-105, 407-001-524-109, 407-001-526-105, 407-001-526-109, 407-001-528-101, or 407-001-528-105; or

(ii) Beam Assembly, P/N 407-001-723-101, installed.

(7) Model 427 with Swashplate Lateral Link Assembly (upper and lower bearing),P/N 427-001-021-101; Swashplate Longitudinal Link Assembly (upper and lower bearing), P/N 427-001-022-101; Transmission Mounted Longitudinal Bellcrank Assembly (pivot bearing), P/N 427-001-521-105/-109; Transmission Mounted Lateral Bellcrank Assembly (pivot bearing), P/N 427-001-520-109/-113; or Bearing and Liner (lower drive link bearing), P/N 406-010-417-109, installed.

(8) Model 427 with Tail Rotor Actuator Output Idler, P/N 427-001-723-101, installed.

(9) Model 430 with

(i) Fitting Assembly Engine Bipod Mount, P/N 230-060-113-101, 230-060-113-102, 230-060-114-101, or 230-060-114-102; Bearing Assembly M/R Rotating Controls,P/N 430-010-449-101; Rod End Assembly Lift link, P/N 430-010-204-101 or 430-010-204-103, or

(ii) Bellcrank Assembly Directional Controls, P/N 222-001-734-001, or 222-001-736-005, installed.

(b) Unsafe Condition

This AD defines the unsafe condition as bearings that may not have been staked as required and may migrate out of their proper position and limit the functionality of the affected part. This condition could result in failure of a bearing and the lever assembly in which it is installed and subsequent loss of control of the helicopter.

(c) Comments Due Date

We must receive comments by July 12, 2013.

(d) Compliance

You are responsible for performing each action required by this AD within the specified compliance time unless it has already been accomplished prior to that time.

(e) Required Actions

(1) Perform each action required by this AD within the compliance time for each part listed in the applicability paragraph of this AD as follows: (a)(1), (a)(2), (a)(6)(i), (a)(7), and (a)(8), within 10 hours time-in-service (TIS) or 30 days, whichever occurs first; (a)(3)(i), (a)(4)(i), (a)(5)(i), and (a)(9)(i), within 5 hours TIS or 30 days, whichever occurs first; (a)(3)(ii), (a)(4)(ii), (a)(5)(ii), and (a)(9)(ii) within 150 hours TIS or 12 months, whichever occurs first; and (a)(6)(ii) within 300 hours TIS or 12 months, whichever occurs first.

(2) Using a 10X or higher power magnifying glass or using a boroscope, inspect each bearing and determine if the bearing has been properly staked for each part that contains a part serial number with a prefix of either “TI” or “TIFS.”

(i) If a part does not contain a serial number, inspect the bearing of that part even if that part contains a supplier marking.

(ii) If you cannot access the bearing while the part is installed on the helicopter to make a determination as to whether the bearing in the part is properly staked, remove the part and inspect the bearing using a 10X or higher power magnifying glass or using a boroscope.

(iii) If you find a part that is not properly staked, replace the bearing or the assembly with an airworthy bearing or assembly before further flight.

(f) Alternative Methods of Compliance (AMOCs)

(1) The Manager, Safety Management Group, FAA, may approve AMOCs for this AD. Send your proposal to Sharon Miles, ASW-111, Aviation Safety Engineer, Rotorcraft Directorate, Regulations and Guidance Group, 2601 Meacham Blvd., Fort Worth, Texas 76137, telephone (817) 222-5110, email sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Bell Alert Service Bulletin (ASB) No. 206-09-122 for Models 206A and 206B; No. 206L-09-156 for Models 206L, 206L-1, 206L-3, and 206L-4; No. 222-09-107 for Models 222 and 222B; No. 222U-09-78 for Model 222U; No. 230-09-39 for Model 230; No. 407-09-88 for Model 407; No. 427-09-25 for Model 427; and No. 430-09-42 for Model 430, all dated April 7, 2009, which are not incorporated by reference, contain additional information about the subject of this AD. For service information identified in this proposed AD, contact Bell Helicopter Textron Canada Limited, 12,800 Rue de l'Avenir, Mirabel, Quebec J7J1R4, telephone (450) 437-2862 or (800) 363-8023, fax (450) 433-0272, or at http://www.bellcustomer.com/files/. You may review the referenced service information at the FAA, Office of the Regional Counsel, Southwest Region, 2601 Meacham Blvd., Room 663, Fort Worth, Texas 76137.

(2) The subject of this AD is addressed in Transport Canada AD No. CF-2009-32, dated July 24, 2009.

(h) Subject

Joint Aircraft System/Component (JASC) Code: 6700 Rotorcraft Flight Controls and 6710 Main Rotor Control.

Issued in Fort Worth, Texas, on April 26, 2013.
Kim Smith,
Directorate Manager, Rotorcraft Directorate, Aircraft Certification Service.

[FR Doc. 2013-11240 Filed 5-10-13; 8:45 am]

BILLING CODE 4910-13-P